DEPARTMENT OF LABOR

Employment and Training Administration

Workforce Investment Act; Lower Living Standard Income Level

AGENCY: Employment and Training Administration, Labor.

ACTION: Notice of Determination of Lower Living Standard Income Level.

SUMMARY: Under Title I of the Workforce Investment Act (WIA) of 1998 (Pub. L. 105-220), the Secretary of Labor annually determines the Lower Living Standard Income Level (LLSIL) for uses described in the law. WIA defines the term “Low Income Individual” as one who qualifies under various criteria, including an individual who received income for a six-month period that does not exceed the higher level of the poverty line or 70 percent of the LLSIL. This issuance provides the Secretary's annual LLSIL for 2009 and references the current 2009 Health and Human Services “Poverty Guidelines.”

DATES: Effective Date: This notice is effective on the date of publication in the Federal Register.

ADDRESSES: Send written comments to: Mr. Samuel Wright, Department of Labor, Employment and Training Administration, 200 Constitution Avenue, NW., Room C-4510, Washington, DC 20210.

FOR FURTHER INFORMATION CONTACT: Please contact Mr. Samuel Wright, Telephone (202) 693-2870; Fax (202) 693-3015 (these are not toll free numbers).

SUPPLEMENTARY INFORMATION: It is the purpose of the Workforce Investment Act of 1998 “to provide workforce investment activities, through statewide and local workforce investment systems, that increase the employment, retention, and earnings of participants, and increase occupational skill attainment by participants, and as a result, improve the quality of the workforce, reduce welfare dependency, and enhance the productivity and competitiveness of the Nation.”

The LLSIL is used for several purposes under WIA. Specifically, WIA Section 101(25) defines the term “low income individual” for eligibility purposes, and Sections 127(b)(2)(C) and 132(b)(1)(B)(v)(IV) define the terms “disadvantaged youth” and “disadvantaged adult” in terms of the poverty line or LLSIL for state formula allotments. The Governor and state/local workforce investment boards (WIBs) use the LLSIL for determining eligibility for youth, eligibility for employed adult workers for certain services and for the Work Opportunity Tax Credit (WOTC). We encourage the Governors and state/local WIBs to consult WIA regulations and the preamble to the WIA Final Rule (published at 65 FR 49294 August 11, 2000) for more specific guidance in applying the LLSIL to program requirements. The Department of Health and Human Services (HHS) published the annual 2009 update of the poverty-level guidelines in the Federal Register, Vol. 74, No. 14, January 23, 2009, pp. 4199-4201. The HHS 2009 Poverty guidelines may also be found on the Internet at: http://aspe.hhs.gov/poverty/09fedreg.pdf. ETA plans to have the 2009 LLSIL available on its Web site at [http://www.doleta.gov/llsil/2009/].

WIA Section 101(24) defines the LLSIL as “that income level (adjusted for regional, metropolitan, urban and rural differences and family size) determined annually by the Secretary [of Labor] based on the most recent lower living family budget issued by the Secretary.” The most recent lower living family budget was issued by the Secretary in the fall of 1981. The four-person urban family budget estimates, previously published by the Bureau of Labor Statistics (BLS), provided the basis for the Secretary to determine the LLSIL. BLS terminated the four-person family budget series in 1982, after publication of the fall 1981 estimates. Currently, BLS provides data to ETA through which ETA develops the LLSIL tables, as provided in the Appendices.

ETA published the 2008 updates to the LLSIL in the Federal Register of April 25, 2008, at 73 FR 22435 and the corrections to tables 4 and 5 in the Federal Register of June 10, 2008, at 73 FR 32740. These notices again updates the LLSIL to reflect cost of living increases for 2008, by applying the percentage change in the most recent 2008 Consumer Price Index for All Urban Consumers (CPI-U) for an area, compared with the 2007 CPI-U to each of the April 25, 2008 LLSIL figures. Those updated figures for a family-of-four are listed in Appendix A, Table 1, by region for both metropolitan and non-metropolitan areas. This year the LLSIL figures for some areas have decreased because the over-the-year change in CPI-U was negative due to the economic downturn. Figures in all of the accompanying tables, in the Appendices, are rounded up to the nearest dollar. Since low income individuals, “disadvantaged adult” and “disadvantaged youth” may be determined by family income at 70 percent of the LLSIL, pursuant to WIA Sections 101(25), 127(b)(2)(C), and 132(b)(1)(B)(v)(IV), respectively, those figures are listed as well.

Jurisdictions included in the various regions, based generally on Census Divisions of the U.S. Department of Commerce, are as follows:

Northeast

Connecticut,

Maine,

Massachusetts,

New Hampshire,

New Jersey,

New York,

Pennsylvania,

Rhode Island,

Vermont,

Virgin Islands.

Midwest

Illinois,

Indiana,

Iowa,

Kansas,

Michigan,

Minnesota,

Missouri,

Nebraska,

North Dakota,

Ohio,

South Dakota,

Wisconsin.

South

Alabama,

American Samoa,

Arkansas,

Delaware,

District of Columbia,

Florida,

Georgia,

Northern Marianas,

Oklahoma,

Palau,

Puerto Rico,

South Carolina,

Kentucky,

Louisiana,

Marshall Islands,

Maryland,

Micronesia,

Mississippi,

North Carolina,

Tennessee,

Texas,

Virginia,

West Virginia.

West

Arizona,

California,

Colorado,

Idaho,

Montana,

Nevada,

New Mexico,

Oregon,

Utah,

Washington,

Wyoming.

Additionally, separate figures have been provided for Alaska, Hawaii, and Guam as indicated in Appendix B, Table 2.

For Alaska, Hawaii, and Guam, the year 2008 figures were updated from the April 2008 “State Index” based on the ratio of the urban change in the state (using Anchorage for Alaska and Honolulu for Hawaii and Guam) compared to the West regional metropolitan change, and then applying that index to the West regional metropolitan change.

Data on 23 selected MSAs are also available. These are based on semiannual CPI-U changes for a 12-month period ending in June 2008. The updated LLSIL figures for these MSAs and 70 percent of the LLSIL are reported in Appendix C, Table 3.

Appendix D, Table 4 lists each of the various figures at 70 percent of the updated 2008 LLSIL for family sizes of one to six persons. Because tables 1-3 only list the LLSIL for a family of four, table 4 can be used to determine the LLSIL for families of one to six persons. For families larger than six persons, an amount equal to the difference between the six-person and the five-person family income levels should be added to the six-person family income level for each additional person in the family. Where the poverty level for a particular family size is greater than the corresponding LLSIL figure, the figure is indicated in parentheses. A modified Excel version of Appendix D, Table 4, with the area names, will be available on the Department of Labor, Employment and Training Administration LLSIL Webpage at [http://www.doleta.gov/llsil/2009/]. Appendix E, Table 5, indicates 100 percent of LLSIL for family sizes of one to six and is used to determine self-sufficiency as noted at 20 CFR 663.230 of the WIA regulations and WIA Section 134(d)(3)(A)(ii).

Use of These Data

Governors should designate the appropriate LLSILs for use within the state from Appendices A, B, and C, containing Tables 1 through 3. Appendices D and E, which contain Tables 4 and 5, may be used with any LLSIL designated. The Governor's designation may be provided by disseminating information on MSAs and metropolitan and non-metropolitan areas within the state or it may involve further calculations. For example, the State of New Jersey may have four or more LLSIL figures for Northeast metropolitan, Northeast non-metropolitan, portions of the state in the New York City MSA, and those in the Philadelphia MSA. If a workforce investment area includes areas that would be covered by more than one figure, the Governor may determine which is to be used.

Under 20 CFR 661.110, a state's policies and measures for the workforce investment system shall be accepted by the Secretary to the extent that they are consistent with the WIA and the WIA regulations.

Disclaimer on Statistical Uses

It should be noted, the publication of these figures is only for the purpose of meeting the requirements specified by WIA as defined in the law and regulations. BLS has not revised the lower living family budget since 1981, and has no plans to do so. The four-person urban family budget estimates series has been terminated. The CPI-U adjustments used to update the LLSIL for this publication are not precisely comparable, most notably because certain tax items were included in the 1981 LLSIL, but are not in the CPI-U. Thus, these figures should not be used for any statistical purposes, and are valid only for those purposes under WIA as defined in the law and regulations.

Lower Living Standard Income Level for 2009

Under Title I of the Workforce Investment Act of 1998 (Public Law 105-220), the Secretary of Labor annually determines the Lower Living Standard Income Level (LLSIL). This Notice announces the LLSIL Tables for 2009. WIA requires the Department of Labor to update and publish the LLSIL tables annually. The LLSIL tables are used for several purposes under WIA, including determining eligibility for youth and for the Work Opportunity Tax Credit.

Signed at Washington, DC, this 16th day of March 2009.
Douglas F. Small,
Deputy Assistant Secretary.

Appendix A

Table 1—Lower Living Standard Income Level
(For a family of four persons) by Region ¹
Region ² | 2009 Adjusted LLSIL | 70 percent LLSIL
Northeast
Metro | $37,703 | $26,392
Non-Metro ³ | 36,086 | 25,260
Midwest
Metro | 33,198 | 23,239
Non-Metro | 31,817 | 22,272
South
Metro | 32,143 | 22,500
Non-Metro | 30,986 | 21,690
West
Metro | 36,664 | 25,665
Non-Metro ⁴ | 35,126 | 24,588
¹ For ease of use, these figures are rounded to the next highest dollar.
² Metropolitan area measures were calculated from the weighted average CPI-Us for city size classes A and B/C. Non-metropolitan area measures were calculated from the CPI-Us for city size class D.
³ Non-metropolitan area percent changes for the Northeast region are no longer available. The Non-metropolitan percent change was calculated using the U.S. average CPI-U for city size class D.
⁴ Non-metropolitan area percent changes for the West region are unpublished data.

Appendix B

Table 2—Lower Living Standard Income Level
(For a family of four persons)—Alaska, Hawaii and Guam ¹
Region | 2009 Adjusted LLSIL | 70 percent LLSIL
Alaska
Metro | $44,250 | $30,975
Non-Metro ² | 44,073 | 30,851
Hawaii, Guam
Metro | 47,622 | 33,335
Non-Metro ² | 47,051 | 32,936
¹ For ease of use, these figures are rounded to the next highest dollar.
² Non-Metropolitan percent changes for Alaska, Hawaii and Guam were calculated from the CPI-Us for city size class D in the Western Region.

Appendix C

Table 3—Lower Living Standard Income Level
(For a family of four persons) 23 MSAs ¹
Metropolitan Statistical Areas (MSAs) | 2009 Adjusted LLSIL | 70 percent LLSIL
Anchorage, AK | $45,356 | $31,749
Atlanta, GA | 30,799 | 21,559
Boston—Brockton—Nashua, MA/NH/ME/CT | 41,150 | 28,805
Chicago—Gary—Kenosha, IL/IN/WI | 34,947 | 24,463
Cincinnati—Hamilton, OH/KY/IN | 33,753 | 23,627
Cleveland—Akron, OH | 34,542 | 24,179
Dallas—Ft. Worth, TX | 31,333 | 21,933
Denver—Boulder—Greeley, CO | 35,307 | 24,715
Detroit—Ann Arbor—Flint, MI | 31,957 | 22,370
Honolulu, HI | 48,670 | 34,069
Houston—Galveston—Brazoria, TX | 29,759 | 20,831
Kansas City, MO/KS | 32,479 | 22,735
Los Angeles—Riverside—Orange County, CA | 38,822 | 27,175
Milwaukee—Racine, WI | 33,405 | 23,384
Minneapolis—St. Paul, MN/WI | 33,585 | 23,510
New York—Northern NJ—Long Island, NY/NJ/CT/PA | 40,205 | 28,144
Philadelphia—Wilmington—Atlantic City, PA/NJ/DE/MD | 36,317 | 25,422
Pittsburgh, PA | 40,379 | 28,265
St. Louis, MO/IL | 31,917 | 22,342
San Diego, CA | 42,827 | 29,979
San Francisco—Oakland—San Jose, CA | 38,904 | 27,233
Seattle—Tacoma—Bremerton, WA | 40,221 | 28,155
Washington—Baltimore, DC/MD/VA/WV ² | 41,013 | 28,709
¹ For ease of use, these figures are rounded to the next highest dollar.
² Baltimore and Washington are now calculated as a single metropolitan statistical area.

Appendix D

Table 4—Seventy Percent of Updated 2009 Lower Living Standard Income Level (LLSIL), by Family Size

To use the seventy percent LLSIL value, where it is stipulated for WIA programs, begin by locating the region or metropolitan area where they reside. These are listed in Tables 1, 2 and 3. After locating the appropriate region or metropolitan statistical area, find the seventy percent LLSIL amount for that location. The seventy percent LLSIL figures are listed in the last column to the right on each of the three tables. These figures apply to a family of four. Larger and smaller family eligibility is based on a percentage of the family of four. To determine eligibility for other size families consult table 4 and the instructions below.

To use Table 4, locate the seventy percent LLSIL value that applies to the individual's region or metropolitan area from Tables 1, 2 or 3. Find the same number in the “family of four” column of Table 4. Move left or right across that row to the size that corresponds to the individual's family unit. That figure is the maximum household income the individual is permitted in order to qualify as economically disadvantaged under WIA.

Where the HHS poverty level for a particular family size is greater than the corresponding LLSIL figure, the LLSIL figure appears in a shaded block. Individuals from these size families may consult the 2009 HHS poverty guidelines found in the Federal Register, Vol. 74, No. 14, January 23, 2009, pp. 4199-4201 (on the Internet at http://aspe.hhs.gov/poverty/09fedreg.pdf) to find the higher eligibility standard. Individuals from Alaska and Hawaii should consult the HHS guidelines for the generally higher poverty levels that apply in their states.

Family of one | Family of two | Family of three | Family of four | Family of five | Family of six
$7,505 | $12,296 | $16,876 | $20,831 | $24,585 | $28,751
7,762 | 12,722 | 17,470 | 21,559 | 25,444 | 29,754
7,815 | 12,802 | 17,571 | 21,690 | 25,597 | 29,935
7,901 | 12,947 | 17,771 | 21,933 | 25,887 | 30,272
8,024 | 13,144 | 18,044 | 22,272 | 26,288 | 30,742
8,049 | 13,187 | 18,101 | 22,342 | 26,367 | 30,832
8,056 | 13,199 | 18,123 | 22,370 | 26,398 | 30,870
8,104 | 13,278 | 18,225 | 22,500 | 26,556 | 31,058
8,184 | 13,416 | 18,421 | 22,735 | 26,831 | 31,379
8,366 | 13,714 | 18,824 | 23,239 | 27,422 | 32,075
8,418 | 13,798 | 18,943 | 23,384 | 27,596 | 32,272
8,467 | 13,874 | 19,048 | 23,510 | 27,747 | 32,449
8,508 | 13,945 | 19,144 | 23,627 | 27,884 | 32,608
8,707 | 14,272 | 19,588 | 24,179 | 28,536 | 33,369
8,807 | 14,439 | 19,815 | 24,463 | 28,871 | 33,766
8,853 | 14,509 | 19,921 | 24,588 | 29,019 | 33,939
8,901 | 14,587 | 20,025 | 24,715 | 29,166 | 34,110
9,096 | 14,909 | 20,467 | 25,260 | 29,812 | 34,859
9,157 | 15,002 | 20,595 | 25,422 | 30,004 | 35,085
9,240 | 15,142 | 20,790 | 25,665 | 30,285 | 35,422
9,505 | 15,578 | 21,379 | 26,392 | 31,148 | 36,424
9,784 | 16,034 | 22,013 | 27,175 | 32,068 | 37,507
9,809 | 16,073 | 22,060 | 27,233 | 32,138 | 37,587
10,133 | 16,609 | 22,797 | 28,144 | 33,210 | 38,845
10,142 | 16,613 | 22,809 | 28,155 | 33,226 | 38,856
10,181 | 16,683 | 22,901 | 28,265 | 33,359 | 39,011
10,340 | 16,945 | 23,258 | 28,709 | 33,884 | 39,626
10,372 | 16,997 | 23,339 | 28,805 | 33,995 | 39,752
10,798 | 17,689 | 24,287 | 29,979 | 35,379 | 41,377
11,111 | 18,203 | 24,992 | 30,851 | 36,406 | 42,575
11,157 | 18,277 | 25,094 | 30,975 | 36,554 | 42,753
11,435 | 18,739 | 25,720 | 31,749 | 37,471 | 43,815
11,861 | 19,437 | 26,681 | 32,936 | 38,866 | 45,453
12,007 | 19,670 | 27,007 | 33,335 | 39,339 | 4,6010
12,270 | 20,102 | 27,596 | 34,069 | 40,203 | 47,022

Appendix E

Table 5—Updated 2009 LLSIL (100%), By Family Size

To use the LLSIL to determine the minimum level for establishing self-sufficiency criteria at the State or local level, begin by locating the metropolitan area or region from Table 1, 2 or 3. Then locate the appropriate region or metropolitan statistical area and then find the 2009 Adjusted LLSIL amount for that location. These figures apply to a family of four. Locate the corresponding number in the family of four in the column below. Move left or right across that row to the size that corresponds to the individual's family unit. That figure is the minimum figure States must set for determining whether employment leads to self-sufficiency under WIA programs.

Family of one | Family of two | Family of three | Family of four | Family of five | Family of six
$10,722 | $17,566 | $24,109 | $29,759 | $35,121 | $41,073
11,089 | 18,174 | 24,957 | 30,799 | 36,348 | 42,505
11,164 | 18,289 | 25,101 | 30,986 | 36,567 | 42,764
11,287 | 18,496 | 25,387 | 31,333 | 36,982 | 43,246
11,463 | 18,777 | 25,777 | 31,817 | 37,554 | 43,917
11,499 | 18,838 | 25,858 | 31,917 | 37,667 | 44,046
11,509 | 18,855 | 25,890 | 31,957 | 37,712 | 44,100
11,577 | 18,969 | 26,036 | 32,143 | 37,937 | 44,369
11,692 | 19,166 | 26,316 | 32,479 | 38,330 | 44,827
11,952 | 19,592 | 26,891 | 33,198 | 39,174 | 45,822
12,026 | 19,712 | 27,062 | 33,405 | 39,423 | 46,103
12,095 | 19,820 | 27,211 | 33,585 | 39,638 | 46,355
12,154 | 19,922 | 27,348 | 33,753 | 39,834 | 46,583
12,438 | 20,389 | 27,983 | 34,542 | 40,766 | 47,670
12,582 | 20,627 | 28,307 | 34,947 | 41,244 | 48,237
12,647 | 20,727 | 28,458 | 35,126 | 41,455 | 48,484
12,716 | 20,838 | 28,607 | 35,307 | 41,665 | 48,729
12,994 | 21,299 | 29,239 | 36,086 | 42,589 | 49,799
13,081 | 21,432 | 29,421 | 36,317 | 42,863 | 50,121
13,200 | 21,632 | 29,700 | 36,664 | 43,264 | 50,603
13,578 | 22,254 | 30,542 | 37,703 | 44,497 | 52,034
13,977 | 22,905 | 31,447 | 38,822 | 45,811 | 53,582
14,013 | 22,961 | 31,514 | 38,904 | 45,911 | 53,696
14,476 | 23,727 | 32,567 | 40,205 | 47,443 | 55,493
14,489 | 23,733 | 32,584 | 40,221 | 47,466 | 55,508
14,544 | 23,833 | 32,715 | 40,379 | 47,656 | 55,730
14,771 | 24,207 | 33,226 | 41,013 | 48,405 | 56,609
14,817 | 24,282 | 33,341 | 41,150 | 48,564 | 56,789
15,426 | 25,270 | 34,696 | 42,827 | 50,541 | 59,110
15,873 | 26,004 | 35,703 | 44,073 | 52,009 | 60,821
15,938 | 26,110 | 35,849 | 44,250 | 52,220 | 61,075
16,336 | 26,770 | 36,743 | 45,356 | 53,530 | 62,593
16,944 | 27,767 | 38,115 | 47,051 | 55,523 | 64,933
17,153 | 28,100 | 38,581 | 47,622 | 56,199 | 65,728
17,528 | 28,717 | 39,423 | 48,670 | 57,433 | 67,174

[FR Doc. E9-6618 Filed 3-25-09; 8:45 am]

BILLING CODE